DEPARTMENT OF HOMELAND SECURITY

Coast Guard

33 CFR Part 110

[Docket No. USCG-2012-0103]

RIN 1625-AA01

Anchorages; Lower Mississippi River, Above Head of Passes, Convent, LA and Point Pleasant, LA

AGENCY: Coast Guard, DHS.

ACTION: Notice of proposed rulemaking.

SUMMARY: The Coast Guard proposes to establish two anchorage areas on the Lower Mississippi River, above the Head of Passes (AHP). The first would be located at the Belmont Light extending from Mile Marker (MM) 152.9 to 154 on the Left Descending Bank (LDB) of the river, the second at Bayou Goula, extending from MM 197.7 to 198.7 on the Right Descending Bank (RDB) of the river. These proposed anchorages would double the available anchorage area in these sections of the river, which is necessary to help accommodate increased vessel volume and improve navigational safety for vessels transiting these river sections.

DATES: Comments and related material must be received by the Coast Guard on or before December 10, 2012.

ADDRESSES: You may submit comments identified by docket number USCG-2012-0103 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except Federal holidays. The telephone number is 202-366-9329.

See the “Public Participation and Request for Comments” portion of the SUPPLEMENTARY INFORMATION section below for instructions on submitting comments. To avoid duplication, please use only one of these three methods.

FOR FURTHER INFORMATION CONTACT: If you have questions on this rule, call or email Lieutenant Commander (LCDR) Brandon Sullivan, Sector New Orleans, U.S. Coast Guard; telephone (504) 365-2280, email Brandon.J.Sullivan@uscg.mil. If you have questions on viewing or submitting material to the docket, call Renee V. Wright, Program Manager, Docket Operations, telephone 202-366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking (USCG-2012-0103), indicate the specific section of this document to which each comment applies, and provide a reason for each suggestion or recommendation. You may submit your comments and material online at http://www.regulations.gov, or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number (USCG-2012-0103) in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

The comment period for this NPRM is 30 days from the date of publication in the Federal Register. The Lower Mississippi River Waterway Safety Advisory Committee, a Federal Advisory Committee, formally recommended creation of these anchorages at the committee meeting in December 2011. A comment period greater than 30 days is unnecessary in this case due to extensive discussion regarding these proposed anchorages that has occurred since that time. However, we will consider requests to extend the comment period.

2. Viewing Comments and Documents

To view comments, as well as documents mentioned in this preamble as being available in the docket, go to http://www.regulations.gov, type the docket number (USCG-2012-0103) in the “SEARCH” box and click “SEARCH.” Click on Open Docket Folder on the line associated with this rulemaking. You may also visit the Docket Management Facility in Room W12-140 on the ground floor of the Department of Transportation, West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one using one of the methods specified under ADDRESSES. Please explain why you believe a public meeting would be beneficial. If we determine that one would aid this rulemaking, we will hold one at a time and place announced by a later notice in the Federal Register.

B. Basis and Purpose

The Coast Guard is authorized under section 7 of the Rivers and Harbors Act of 1915 (33 U.S.C. 471) to establish anchorages in the navigable waters of the United States through the regulations found in 33 CFR parts 109 and 110. At its December 2011 meeting, the Lower Mississippi River Waterway Safety Advisory Council (LMRWSAC) recommended the establishment of two anchorage areas in the Lower Mississippi River (LMR), AHP. LMRWSAC, a Congressionally-chartered Federal advisory committee, is responsible for advising, consulting with, and making recommendations to the Secretary of Homeland Security on navigational safety matters relating to the Lower Mississippi River. Participants at the December 2011 LMRWSAC meeting noted that the anchorages are necessary to address navigation safety concerns arising from the increased volume of vessels in the proposed areas. After extensive discussions, including observations of and comments from members of the public in attendance, LMRWSAC recommended that the Coast Guard establish the two anchorages.

Based on the recommendation of LMRWSAC, the Coast Guard proposes the two anchorage areas. The designated anchorage areas would relieve congestion and provide anchorage space to accommodate the increasing volumes of traffic in these areas of the LMR. The grain facility Zen-Noh predicts a steady 10 percent increase of vessels annually over the next 5 years. The recent addition of the Nucor Steel Louisiana iron making facility will further increase traffic; they are predicting the facility will serve 4-5 Panamax sized vessels a month.

In addition, the establishment of the Bayou Goula Anchorage would not only double the anchorage space available between Burnside, LA and Baton Rouge, LA, it would also provide a much needed alternative to anchor vessels during dredging operations at the White Castle Anchorage.

C. Discussion of Proposed Rule

The proposed amendment would create two new anchorage areas to be known as the Belmont Anchorage and Bayou Goula Anchorage. The Belmont Anchorage includes the area 1.1 miles in length along the left descending bank of the river extending from mile 152.9 (Belmont Light) to mile 154.0 above Head of Passes. The width of the anchorage is 300 feet. The inner boundary of the anchorage is a line parallel to the nearest bank 400 feet from the water's edge into the river as measured from the LWRP. The outer boundary of the anchorage is a line parallel to the nearest bank 700 feet from the water's edge into the river as measured from the LWRP. The anchorage may also be viewed by drawing rhumb lines joining points at:

Latitude | Longitude
30°00′51.494″ | 90°46′35.574″
30°00′52.881″ | 90°46′36.609″
30°00′52.074″ | 90°46′40.399″
30°00′48.973″ | 90°46′51.478″
30°00′47.038″ | 90°46′59.290″
30°00′43.370″ | 90°47′8.183″
30°00′40.939″ | 90°47′13.687″
30°00′36.914″ | 90°47′20.258″
30°00′30.675″ | 90°47′29.094″
30°00′25.657″ | 90°47′35.682″
30°00′18.677″ | 90°47′43.214″
30°00′15.448″ | 90°47′39.349″

The Bayou Goula anchorage includes the area 1.0 mile in length along the right descending bank of the river extending from mile 197.7 to mile 198.7 above the Head of Passes. The width of the anchorage is 500 feet. The inner boundary of the anchorage is a line parallel to the nearest bank 200 feet from the water's edge in the river as measured from the LWRP. The outer boundary of the anchorage is a line parallel to the nearest bank 700 feet from the water's edge into the river as measured from the LWRP. The anchorage may also be viewed by drawing rhumb lines joining points at:

Latitude | Longitude
30°14′18.387″ | 91°07′31.710″
30°14′20.749″ | 91°07′34.063″
30°14′15.236″ | 91°07′49.009″
30°14′11.122″ | 91°07′56.033″
30°14′7.648″ | 91°08′1.368″
30°14′1.284″ | 91°08′10.983″
30°13′56.444″ | 91°08′19.028″
30°13′51.207″ | 91°08′23.955″
30°13′47.977″ | 91°08′20.737″

The anchorage areas would be for temporary use by vessels of all types. Vessels may occupy the anchorage areas during a wide range of conditions and for a broad variety of purposes. For example, vessels would be allowed to anchor temporarily while taking on stores, transferring personnel, or engaging in bunkering operations. Vessels would also be allowed to use anchorage areas while awaiting weather and other conditions favorable to resuming their voyage. The Captain of the Port New Orleans or his designated representative may direct the movement of any vessel anchored or moored within the anchorage areas.

D. Regulatory Analyses

We developed this proposed rule after considering numerous statutes and executive orders related to rulemaking. Below we summarize our analyses based on a number of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. The impacts on routine navigation are expected to be minimal because the proposed anchorage areas would not unnecessarily restrict traffic as they are located outside of the established navigation channel. Vessels would be able to maneuver in, around, and through the anchorages. Operators who choose to maneuver their vessels around a proposed anchorage area would not be significantly impacted because the total distance to transit around each anchorage perimeter to the other side does not exceed more than 1.1 nautical miles.

2. Impact on Small Entities

Under the Regulatory Flexibility Act (5 U.S.C. 601-612), we have considered the impact of this proposed rule on small entities. The Coast Guard certifies under 5 U.S.C. 605(b) that this proposed rule will not have a significant economic impact on a substantial number of small entities. This proposed rule would affect the following entities, some of which may be small entities: The owners or operators of vessels intending to transit through the proposed anchorage areas at both Belmont and Bayou Goula. These anchorages would not have a significant economic impact on a substantial number of small entities for the following reasons: The anchorages would double the anchorage areas in both proposed locations, thus allowing greater vessel volume in order to meet the growing economic needs of facilities along the river, and vessel traffic could pass safely around the anchorages.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule would not call for a new collection of information under the Paperwork Reduction Act of 1995 (44 U.S.C. 3501-3520.).

5. Federalism

A rule has implications for federalism under Executive Order 13132, Federalism, if it has a substantial direct effect on State or local governments and would either preempt State law or impose a substantial direct cost of compliance on them. We have analyzed this proposed rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places, or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This proposed rule involves establishing anchorages and as such is categorically excluded, under figure 2-1, paragraph (34) (f) of the Instruction. A preliminary “Environmental Analysis Check List” supporting this determination is available in the docket where indicated under ADDRESSES. We seek any comments or information that may lead to the discovery of a significant environmental impact from this proposed rule.

List of Subjects in 33 CFR Part 110

Anchorage Regulations.

For the reasons discussed in the preamble, the Coast Guard proposes to amend 33 CFR part 110 as follows:

PART 110—ANCHORAGE REGULATIONS

1. The authority citation for part 110 continues to read as follows:

Authority: 33 U.S.C. 471, 1221 through 1236, 2030, 2035, 2071; 33 CFR 1.05-1; Department of Homeland Security Delegation No. 0170.1.

2. In § 110.195(a), add new paragraphs (34) and (35) to read as follows:

§ 110.195 Mississippi River below Baton Rouge, LA, including South and Southwest Passes.

(a) * * *

(34) Belmont Anchorage. An area 1.1 miles in length along the left descending bank of the river extending from mile 152.9 (Belmont Light) to mile 154.0 above Head of Passes. The width of the anchorage is 300 feet. The inner boundary of the anchorage is a line parallel to the nearest bank 400 feet from the water's edge into the river as measured from the LWRP. The outer boundary of the anchorage is a line parallel to the nearest bank 700 feet from the water's edge into the river as measured from the LWRP.

(35) Bayou Goula Anchorage. An area 1.0 mile in length along the right descending bank of the river extending from mile 197.7 to mile 198.7 above the Head of Passes. The width of the anchorage is 500 feet. The inner boundary of the anchorage is a line parallel to the nearest bank 200 feet from the water's edge in the river as measured from the LWRP. The outer boundary of the anchorage is a line parallel to the nearest bank 700 feet from the water's edge into the river as measured from the LWRP.

* * * * *

Dated: October 30, 2012.
Roy A. Nash,
Rear Admiral, U. S. Coast Guard, Commander, Eighth Coast Guard District.

[FR Doc. 2012-27270 Filed 11-7-12; 8:45 am]

BILLING CODE 9110-04-P